DEPARTMENT OF HEALTH AND HUMAN SERVICES

Centers for Disease Control and Prevention

[30DAY-35-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Dissemination of Lessons Learned from the Community Coalition Partnership Programs for the Prevention of Teen Pregnancy—New—National Center for Chronic Disease Prevention and Health Promotion (NCCDPHP), Centers for Disease Control and Prevention (CDC). The United States has the highest teenage pregnancy rate of all developed countries. About 1 million teenagers become pregnant each year and most of those pregnancies are unintended. These pregnancies have profound economic, social and personal impacts on the teen mothers, their children, and society.

Since 1995, the Centers for Disease Control and Prevention (CDC) has funded 13 community-wide coalitions, the Community Coalition Partnership Programs for Prevention of Teen Pregnancy, to reduce the incidence of teenage pregnancy through a youth development model. Phase I of this effort included a 2-year planning phase and Phase II is the 5-year intervention phase to be completed in September 2002. The proposed data collection is an evaluation of lessons learned from this demonstration project. The goals of the proposed data collection are:

• To provide evidence about effective long-term programs, their components, and approaches

• To identify best practices, practices to avoid, best investments, and how-to steps

• To inform the implementation of the demonstration program

• To inform the modification (if any) and expansion (if any) of the program

The data will be collected via interview with key stakeholders from the hub organization (the one receiving CDC funding), its partner organizations, and the community during tow 3-day site visits to each site. The second site visit will occur a year after the first site visit. If any key stakeholders cannot be present during this site visit, they will be interviewed by phone. The annual burden for this data collection is 416 hours.

Type of respondents | Number of respondents per year | Number of responses per respondent | Avg. burden per response (in hours)
Hub Organization Management | 130 (13 sites, 10 per site) | 1 | 1
Coalition members | 208 (13 sites, 16 per org) | 1 | 1
Evaluators | 78 (13 sites, 6 per site) | 1 | 1

Dated: June 6, 2002.
Julie Fishman,
Acting Associate Director for Policy, Planning and Evaluation, Centers for Disease Control and Prevention.

[FR Doc. 02-15015 Filed 6-13-02; 8:45 am]

BILLING CODE 4163-18-P